DEPARTMENT OF COMMERCE

National Oceanic and Atmospheric Administration

[XRIN: 0648-XA51]

New England Fishery Management Council; Public Informational Meeting.

AGENCY: National Marine Fisheries Service (NMFS), National Oceanic and Atmospheric Administration (NOAA), Commerce.

ACTION: Notice of a public informational meeting.

SUMMARY: Trans-Boundary Resource Assessment Committee (TRAC) Industry/Science Data Exchange Meeting.

DATES: The meeting will be held on Thursday, June 7, 2007, from 9 a.m. to 1 p.m.

ADDRESSES: The meeting will be held at the New Bedford Free Public Library, 613 Pleasant Street, New Bedford, MA 02740; telephone: (508) 991-6279.

Council address: New England Fishery Management Council, 50 Water Street, Mill 2, Newburyport, MA 01950.

FOR FURTHER INFORMATION CONTACT: Paul J. Howard, Exec utive Director, New England Fishery Management Council; telephone: (978) 465-0492.

SUPPLEMENTARY INFORMATION: Amendment 13 to the Northeast Multispecies Fishery Management Plan adopted a system to coordinate the management of trans-boundary stocks of cod, haddock, and yellowtail flounder with Canada. As part of that system, each year, the Trans-Boundary Resource Assessment Committee (TRAC) conducts assessments of Eastern Georges Bank cod and haddock, and Georges Bank yellowtail flounder. These assessments provide the scientific advice used to determine management measures (including Total Allowable Catches, or TACs) for the U.S./Canada fishing area (see 50 CFR 648.85(a)). The TRAC is scheduled for June 12-15, 2007 in St. Andrews, New Brunswick, Canada.

Items for discussion at this meeting:

1. Northeast Fisheries Science Center assessment biologists will brief the public on the catches (landings and discards) and survey data that will be used in the 2007 assessments of Eastern Georges Bank cod and haddock, and Georges Bank yellowtail flounder.

2. Fishermen are encouraged to attend and provide their observations on fishing for cod, haddock, and yellowtail flounder on Georges Bank in calendar year 2006.

Assessment results will not be presented because the assessment will not be completed until the following week.

Discussion will be restricted to those issues specifically identified in this notice.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: May 18, 2007.
Tracey L. Thompson,
Acting Director, Office of Sustainable Fisheries, National Marine Fisheries Service.

[FR Doc. E7-17950 Filed 9-11-07; 8:45 am]

BILLING CODE 3510-22-S